DEPARTMENT OF AGRICULTURE

Forest Service

Nez Perce-Clearwater National Forest; Idaho; Johnson Bar Fire Salvage

AGENCY: Forest Service, USDA.

ACTION: Notice of intent to prepare an environmental impact statement.

SUMMARY: The Forest Service gives notice of its intent to prepare an Environmental Impact Statement for the Johnson Bar Fire Salvage Project. The Proposed action would utilize ground based (tractor and skyline) and helicopter logging systems to harvest trees killed by the Johnson Bar Fire. Harvested areas would be replanted with early seral species such as ponderosa pine, western white pine and western larch. Approximately 3 miles of roads would be decommissioned to reduce sediment related impacts to the watershed. The EIS will analyze the effects of the proposed action and alternatives. The Nez Perce-Clearwater Forests invites comments and suggestions on the issues to be addressed. The agency gives notice of the National Environmental Policy Act (NEPA) analysis and decision making process on the proposal so interested and affected members of the public may participate and contribute to the final decision.

DATES: Comments concerning the scope of the analysis must be received by November 17, 2014. The draft environmental impact statement is expected in March 2015 and the final environmental impact statement is expected July 2015.

ADDRESSES: Send written comments to Mike Ward or Tam White, Interdisciplinary Team Leaders; 502 Lowry Street, Kooskia, Idaho 83539. Comments may also be sent via email to comments-northern-nezperce-moose-creek@fs.fed.us

FOR FURTHER INFORMATION CONTACT: Mike Ward, Interdisciplinary Team Leader, (208) 926-6413 or Tam White, Interdisciplinary Team Leader (208) 926-6416.

SUPPLEMENTARY INFORMATION: The objective of the Johnson Bar Fire Salvage Project would be to recover the economic value of the timber burned in the fire and move the area towards desired species compositions (ponderosa pine, western white pine and western larch) through reforestation as well as improve watershed conditions.

Purpose: Provide a sustained yield of resource outputs at a level that will help support the economic structure of local communities and provide for regional and national needs (Nez Perce Forest Plan, II-1)

Need: There is a need to utilize dead trees resulting from the fire in a timely manner to provide social and economic benefits before they lose commercial value and merchantability, which would contribute to the supply of timber for local, regional, and national needs.

Purpose: Reduce potential sediment inputs into the aquatic ecosystem.

Need: Sediment input from gravel and native surface roads can flow into streams, negatively affecting fish habitat and water quality. Improvement of watershed function and stream conditions can be accomplished by reducing road densities and repairing existing roads and culverts to reduce sediment and improve drainage.

The Proposed Action would: Salvage harvest approximately 4,000 acres of dead trees within the approximate 13,000 acre fire area. Harvesting operations would primarily utilize skyline and helicopter logging systems with a small component of ground based tractor skidding where appropriate. Openings are likely to exceed 40 acres.

Approximately 23 segments of temporary roads would be built to provide line machine access from existing system roads. These spurs generally average approximately 0.16 miles each and would be removed following harvest.

Fire killed or “dead” trees for the purposes of this project are determined using guidelines that determine mortality by the amount of scorch and fire severity surrounding the roots and lower trunk. Field validation of these guidelines indicates they are accurate for the forest types and fire severity in the project area. All live trees will be generally retained however incidental removal may occur to facilitate harvest operations.

Reforestation would plant long lived early seral tree species such as ponderosa pine, western white pine and western larch. This strategy would allow us to continue towards the goal of restoring more resilient tree species across the landscape. Seventeen to thirty-three tons per acre of standing and down large woody debris would be left across the treatment area to provide soil microclimate and habitat, long term nutrients, soil stability, and snag habitat. For safety reasons, retention would generally occur in clumps rather than individual snags distributed across the units. Retention would generally favor the largest snags. Approximately 3 miles of unneeded roads may be decommissioned by placing them in a hydrologically stable condition. This may involve a range of road decommissioning methods from culvert removal to full recontouring.

As they are developed, additional information and maps will be posted to “NEPA Projects” page on the Forests Web site: http://data.ecosystem-management.org/nepaweb/project_list.php?forest=110117.

Responsible Official and Lead Agency

The USDA Forest Service is the lead agency for this proposal. The Nez Perce-Clearwater Forest Supervisor is the responsible official.

The Decision To Be Made is whether to adopt the proposed action, in whole or in part, or another alternative; and what mitigation measures and management requirements will be implemented.

The Scoping Process for the EIS is being initiated with this notice. The scoping process will identify issues to be analyzed in detail and will lead to the development of alternatives to the proposal. The Forest Service is seeking information and comments from other Federal, State, and local agencies; Tribal Governments; and organizations and individuals who may be interested in or affected by the proposed action. Comments received in response to this notice, including the names and addresses of those who comment, will be a part of the project record and available for public review.

Early Notice of Importance of Public Participation in Subsequent Environmental Review: A draft environmental impact statement will be prepared for comment. The second major opportunity for public input will be when the draft EIS is published. The comment period for the draft EIS will be 45 days from the date the Environmental Protection Agency publishes the notice of availability in the Federal Register. The Draft EIS is anticipated to be available for public review in April 2015.

Dated: October 7, 2014.
Rick Brazell,
Forest Supervisor.

[FR Doc. 2014-24569 Filed 10-15-14; 8:45 am]

BILLING CODE 3410-11-P